CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled Process and Impact Evaluation of the Minnesota Reading Corps for review and approval in accordance with the Paperwork Reduction Act of 1995, Public Law 104-13, (44 U.S.C. Chapter 35). Copies of this ICR, with applicable supporting documentation, may be obtained by calling the Corporation for National and Community Service, Scott Richardson, at (202) 606-6903 or email to srichardson@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day public comment Notice was published in the Federal Register on February 21, 2103. This comment period ended April 22, 2013. No public comments were received from this Notice.

Description: CNCS is seeking approval of its Process and Impact Evaluation of the Minnesota Reading Corps. This project will assess the effect of the Minnesota Reading Corps on the literacy outcomes of students enrolled in their Pre-Kindergarten program and the personal and professional goals of AmeriCorps members serving in the program. Copies of the information collection request can be obtained by contacting the office listed in the ADDRESSES section of this Notice.

Type of Review: Renewal.

Agency: Corporation for National and Community Service.

Title: Process and Impact Evaluation of the Minnesota Reading Corps.

OMB Number: 3045-0144.

Agency Number: None.

Affected Public: Pre-Kindergarten students enrolled in select Minnesota schools and individuals who served as tutors in the Minnesota Reading Corps.

Total Respondents for Student Assessments: 1,440.

Frequency for Students: Three.

Average Time per Response for Students: 7 minutes.

Total Respondents for Member Survey: 1,031.

Frequency for Members: Once.

Average Time per Response for Members: 20 minutes.

Estimated Total Burden Hours: 848 hours.

Total Burden Cost (capital/startup): None.

Total Burden Cost (operating/maintenance): None.

Dated: April 24, 2013.
Christopher Spera,
Director of Research and Evaluation.

[FR Doc. 2013-10107 Filed 4-29-13; 8:45 am]

BILLING CODE 6050-28-P